DEPARTMENT OF HOMELAND SECURITY

Federal Emergency Management Agency

[Docket ID FEMA-2012-0003; Internal Agency Docket No. FEMA-B-1257]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Alabama:
Escambia | City of Atmore. (12-04-2355P) | The Honorable Howard Shell, Mayor, City of Atmore, City Hall, 201 East Louisville Avenue, Atmore, AL 36502 | City Hall, 201 East Louisville Avenue, Atmore, AL 36502 | http://www.bakeraecom.com/index.php/alabama/escambia/ | July 12, 2012 | 010071
Escambia | Unincorporated areas of Escambia County (12-04-2355P). | The Honorable David M. Stokes, Chairman, Escambia County Board of Commissioners, P.O. Box 848, Brewton, AL 36427 | County Commission, 314 Belleville Avenue, Brewton, AL 36426 | http://www.bakeraecom.com/index.php/alabama/escambia/ | July 12, 2012 | 010251
Houston | City of Dothan (12-04-2178P) | The Honorable Mike Schmitz, Mayor, City of Dothan, P.O. Box 2128, Dothan, AL 36302 | Public Works Department, Engineering Services Division, 126 North St. Andrews Street, Room 309, Dothan, AL 36303 | http://www.bakeraecom.com/index.php/alabama/houston/ | July 23, 2012 | 010104
Arizona:
Maricopa | City of Phoenix (12-09-0112P). | The Honorable Greg Stanton, Mayor, City of Phoenix, 200 West Washington Street, 11th Floor, Phoenix, AZ 85003 | Street Transportation Department, 200 West Washington Street, 5th Floor, Phoenix, AZ 85003 | http://www.bakeraecom.com/index.php/arizona/maricopa-county/ | July 13, 2012 | 040051
Maricopa | Unincorporated areas of Maricopa County (12-09-0273P) | The Honorable Max W. Wilson, Chairman, Maricopa County Board of Supervisors, 301 West Jefferson Street, 10th Floor, Phoenix, AZ 85003 | Maricopa County Flood Control District, 2801 West Durango Street, Phoenix, AZ 85009 | http://www.bakeraecom.com/index.php/arizona/maricopa-county/ | July 13, 2012 | 040037
Maricopa | Unincorporated areas of Maricopa County (12-09-0405P) | The Honorable Max W. Wilson, Chairman, Maricopa County Board of Supervisors, 301 West Jefferson Street, 10th Floor, Phoenix, AZ 85003 | Maricopa County Flood Control District, 2801 West Durango Street, Phoenix, AZ 85009 | http://www.bakeraecom.com/index.php/arizona/maricopa-county/ | July 13, 2012 | 040037
Mojave | City of Lake Havasu City (12-09-0013P) | The Honorable Mark Nexsen, Mayor, City of Lake Havasu City, 2330 McCulloch Boulevard North, Lake Havasu City, AZ 86403 | 2330 McCulloch Boulevard North, Lake Havasu City, AZ 86403 | http://www.bakeraecom.com/index.php/arizona/mohave-county/ | July 16, 2012 | 040116
California:
Los Angeles | Unincorporated areas of Los Angeles County (12-09-0692P) | The Honorable Zev Yaroslavsky, Chairman, Los Angeles County Board of Supervisors, 500 West Temple Street, Room 856, Los Angeles, CA 90012 | Department of Public Works, 900 South Fremont Avenue, Alhambra, CA 91803 | http://www.bakeraecom.com/index.php/california/los-angeles-county/ | July 23, 2012 | 065043
Orange | City of Brea (12-09-0415P) | The Honorable Don Schweitzer, Mayor, City of Brea, 1 Civic Center Circle, Brea, CA 92821 | Civic and Cultural Center, 1 Civic Center Circle, Brea, CA 92821 | http://www.bakeraecom.com/index.php/california/orange-3/ | July 16, 2012 | 060214
San Diego | City of San Diego (12-09-0330P) | The Honorable Jerry Sanders, Mayor, City of San Diego, 202 C Street, 11th Floor, San Diego, CA 92101 | Executive Complex, 1010 2nd Avenue, Suite 1100, San Diego, CA 92101 | http://www.bakeraecom.com/index.php/california/san-diego-county/ | July 20, 2012 | 060295
San Mateo | City of Redwood City (12-09-0320P) | The Honorable Alicia Aguirre, Mayor, City of Redwood City, P.O. Box 391, Redwood City, CA 94064 | City Hall, 1017 Middlefield Road, Redwood City, CA 94064 | http://www.bakeraecom.com/index.php/california/san-mateo-county/ | July 16, 2012 | 060325
Ventura | City of Oxnard (12-09-1132P) | The Honorable Thomas E. Holden, OD, Mayor, City of Oxnard, 305 West 3rd Street, Oxnard, CA 93030 | Planning Department, 214 South C Street, Oxnard, CA 93030 | http://www.bakeraecom.com/index.php/california/ventura-county/ | August 6, 2012 | 060417
Colorado:
Douglas | Town of Parker (12-08-0154P) | The Honorable David Casiano, Mayor, Town of Parker, 20120 East Main Street, Parker, CO 80138 | Public Works Department, 20120 East Main Street, Parker, CO 80138 | http://www.bakeraecom.com/index.php/colorado/douglas-2/ | July 13, 2012 | 080310
Jefferson | Unincorporated areas of Jefferson County (12-08-0141P) | The Honorable Donald Rosier, Chairman, Jefferson County Board of Commissioners, 100 Jefferson County Parkway, Golden, CO 80419 | Department of Planning and Zoning, 100 Jefferson County Parkway, Suite 3, Golden, CO 80419 | http://www.bakeraecom.com/index.php/colorado/jefferson-5/ | July 13, 2012 | 080087
Florida:
Broward | City of Hollywood (12-04-0393P) | The Honorable Peter J. M. Bober, Mayor, City of Hollywood, 2600 Hollywood Boulevard, Hollywood, FL 33022 | City Hall, 2600 Hollywood Boulevard, Hollywood, FL 33022 | http://www.bakeraecom.com/index.php/florida/broward/ | July 9, 2012 | 125113
Broward | Town of Lauderdale-by-the-Sea (12-04-0897P) | The Honorable Roseann Minnet, Mayor, Town of Lauderdale-by-the-Sea, 4501 Ocean Drive, Lauderdale-by-the-Sea, FL 33308 | City Hall, 4501 Ocean Drive, Lauderdale-by-the-Sea, FL 33308 | http://www.bakeraecom.com/index.php/florida/broward/ | July 13, 2012 | 125123
Jackson | Town of Bascom (12-04-2176P) | The Honorable Ann Bryan, Mayor, Town of Bascom, 4967 Basswood Road, Bascom, FL 32423 | Town Hall, 4969 Basswood Road, Bascom, FL 32423 | http://www.bakeraecom.com/index.php/florida/jackson-4/ | August 16, 2012 | 120069
Jackson | Unincorporated areas of Jackson County (12-04-2176P) | The Honorable Chuck Lockey, Chairman, Jackson County Board of Commissioners, 2864 Madison Street, Marianna, FL 32448 | Chamber of Commerce, 4318 Lafayette Street, Marianna, FL 32446 | http://www.bakeraecom.com/index.php/florida/jackson-4/ | August 16, 2012 | 120125
Kentucky:
Fayette | Lexington- Fayette Urban County Government, KY (12-04-2199P) | The Honorable Jim Gray, Mayor, Lexington-Fayette Urban County Government, 200 East Main Street, Lexington, KY 40507 | Division of Planning, Current Planning Section, 101 East Vine Street, Lexington, KY 40507 | http://www.bakeraecom.com/index.php/kentucky/fayette/ | August 6, 2012 | 210067
New Mexico:
Sandoval | Unincorporated areas of Sandoval County (11-06-1258P) | The Honorable Darryl Madalena, Chairman, Sandoval County Commission, P.O. Box 40, Bernalillo, NM 87004 | 711 Camino Del Pueblo, Bernalillo, NM 87004 | http://www.rampp-team.com/lomrs.htm | July 6, 2012 | 350055
New York:
Orange | Village of Goshen (11-02-1056P) | The Honorable Kyle P. Roddey, Mayor, Village of Goshen, Village Hall, 276 Main Street, Goshen, NY 10924 | Village Hall, 276 Main Street, Goshen, NY 10924 | https://www.rampp-team.com/lomrs.htm | September 13, 2012 | 361571
Westchester | City of Yonkers (10-02-2170P) | The Honorable Philip A. Amicone, Mayor, City of Yonkers, 40 South Broadway, Yonkers, NY 10701 | 40 South Broadway, Yonkers, NY 10701 | https://www.rampp-team.com/lomrs.htm | June 29, 2012 | 360936
Oklahoma:
Cleveland | City of Norman (11-06-4261P) | The Honorable Cindy S. Rosenthal, Mayor, City of Norman, P.O. Box 370, Norman, OK 73070 | 201 West Gray Street, Building A, Norman, OK 73069 | http://www.rampp-team.com/lomrs.htm | August 1, 2012 | 400046
Mayes | City of Pryor Creek (12-06-0785P) | The Honorable Jimmy Tramel, Mayor, City of Pryor Creek, 6 North Adair Street, Pryor, OK 74361 | 6 North Adair Street, Pryor, OK 74361 | http://www.rampp-team.com/lomrs.htm | June 22, 2012 | 400117
Mayes | Unincorporated areas of Mayes County (12-06-0785P) | The Honorable Alva Martin, Commissioner, Mayes County, 1 Court Place, Suite 140, Pryor, OK 74361 | 1 Court Place, Suite 140, Pryor, OK 74361 | http://www.rampp-team.com/lomrs.htm | June 22, 2012 | 400458
Tulsa | City of Tulsa (11-06-1755P) | The Honorable Dewey F. Bartlett, Jr., Mayor, City of Tulsa, 175 East 2nd Street, Suite 690, Tulsa, OK 74103 | Stormwater Design Office, 2317 South Jackson Avenue, Suite 302, Tulsa, OK 74107 | http://www.rampp-team.com/lomrs.htm | July 5, 2012 | 405381
Pennsylvania:
Delaware | Township of Radnor (11-03-1189P) | The Honorable William A. Spingler, President of the Board of Commissioners, Township of Radnor, 301 Iven Avenue, Wayne, PA 19087 | Radnor Township Building, 301 Iven Avenue, Wayne, PA 19087 | http://www.rampp-team.com/lomrs.htm | August 2, 2012 | 420428
South Carolina:
Jasper | Town of Hardeeville (11-04-8141P) | The Honorable Bronco Bostick, Mayor, Town of Hardeeville, 205 East Main Street, Hardeeville, SC 29927 | City Hall, 205 East Main Street, Hardeeville, SC 29927 | http://www.bakeraecom.com/index.php/southcarolina/jasper-2/ | July 26, 2012 | 450113
Jasper | Unincorporated areas of Jasper County (11-04-8141P) | The Honorable Reverend Samuel Gregory, Chairman, Jasper County Council, P.O. Box 1149, Ridgeland, SC 29936 | Planning and Zoning Department, 358 3rd Avenue, Ridgeland, SC 29936 | http://www.bakeraecom.com/index.php/southcarolina/jasper-2/ | July 26, 2012 | 450112
Richland | Unincorporated areas of Richland County (11-04-6309P) | The Honorable Kelvin E. Washington, Sr., Chairman, Richland County Council, 2020 Hampton Street, Columbia, SC 29202 | Richland County Courthouse, 1701 Main Street, Columbia, SC 29202 | http://www.bakeraecom.com/index.php/southcarolina/richland/ | July 2, 2012 | 450170
Tennessee:
Williamson | Unincorporated areas of Williamson County (11-04-4928P) | The Honorable Rogers Anderson, Mayor, Williamson County, 1320 West Main Street, Suite 125, Franklin, TN 37064 | Planning Department, 1320 West Main Street, Suite 400, Franklin, TN 37064 | http://www.bakeraecom.com/index.php/tennessee/williamson/ | July 9, 2012 | 470204
Texas:
Bandera | Unincorporated areas of Bandera County (12-06-0946P) | The Honorable Richard Evans, Bandera County Judge, 500 Main Street, Bandera, TX 78003 | Bandera County Rural Addressing Office, 502 11th Street, Bandera, TX 78003 | http://www.rampp-team.com/lomrs.htm | June 28, 2012 | 480020
Bell | City of Killeen. (11-06-4177P) | The Honorable Timothy L. Hancock, Mayor, City of Killeen, P.O. Box 1329, Killeen, TX 76541 | City Hall, 101 North College Street, Killeen, TX 76540 | http://www.rampp-team.com/lomrs.htm | August 1, 2012 | 480031
Bell | Unincorporated areas of Bell County (11-06-4177P) | The Honorable Jon H. Burrows, Bell County Judge, 101 East Central Avenue, Belton, TX 76513 | Bell County Courthouse, 101 East Central Avenue, Belton, TX 76513 | http://www.rampp-team.com/lomrs.htm | August 1, 2012 | 480706
Bexar | City of Converse. (11-06-0362P) | The Honorable Al Suarez, Mayor, City of Converse, 403 South Seguin Street, Converse, TX 78109 | City Hall, 403 South Seguin Street, Converse, TX 78109 | http://www.rampp-team.com/lomrs.htm | June 29, 2012 | 480038
Bexar | City of Leon Valley (11-06-2731P) | The Honorable Chris Riley, Mayor, City of Leon Valley, 6400 El Verde Road, Leon Valley, TX 78238 | City Hall, 6400 El Verde Road, Leon Valley, TX 78238 | http://www.rampp-team.com/lomrs.htm | June 6, 2012 | 480042
Bexar | City of San Antonio (12-06-0888P) | The Honorable Julian Castro, Mayor, City of San Antonio, City Hall, 100 Military Plaza, San Antonio, TX 78205 | Municipal Plaza, 114 West Commerce Street, 7th Floor, San Antonio, TX 78205 | http://www.rampp-team.com/lomrs.htm | August 2, 2012 | 480045
Bexar | City of Shavano Park (12-06-0888P) | The Honorable A. David Marne, Mayor, City of Shavano Park, 900 Saddletree Court, Shavano Park, TX 78231 | City Hall, 900 Saddletree Court, Shavano Park, TX 78231 | http://www.rampp-team.com/lomrs.htm | August 2, 2012 | 480047
Bexar | Unincorporated areas of Bexar County (11-06-4323P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | http://www.rampp-team.com/lomrs.htm | July 13, 2012 | 480035
Bexar | Unincorporated areas of Bexar County (11-06-4222P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | http://www.rampp-team.com/lomrs.htm | July 20, 2012 | 480035
Bexar | Unincorporated areas of Bexar County (11-06-4494P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | http://www.rampp-team.com/lomrs.htm | July 20, 2012 | 480035
Bexar | Unincorporated areas of Bexar County (11-06-4594P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | http://www.rampp-team.com/lomrs.htm | August 2, 2012 | 480035
Collin | City of Wylie (11-06-1847P) | The Honorable Eric Hogue, Mayor, City of Wylie, 300 Country Club Road, Building 100, Wylie, TX 75098 | 300 Country Club Road, Building 100, 2nd Floor, Wylie, TX 75098 | http://www.rampp-team.com/lomrs.htm | August 2, 2012 | 480759
Collin and Dallas | City of Sachse (11-06-2894P) | The Honorable Mike Felix, Mayor, City of Sachse, 3815 Sachse Road, Building B, Sachse, TX 75048 | City Hall, 3815 Sachse Road, Building B, Sachse, TX 75048 | http://www.rampp-team.com/lomrs.htm | July 6, 2012 | 480186
Comal | City of New Braunfels (11-06-3632P) | The Honorable Gale Pospisil, Mayor, City of New Braunfels, 424 South Castell Avenue, New Braunfels, TX 78130 | 195 David Jonas Drive, New Braunfels, TX 78132 | http://www.rampp-team.com/lomrs.htm | May 31, 2012 | 485493
Fort Bend | City of Sugar Land (11-06-0225P) | The Honorable James Thompson, Mayor, City of Sugar Land, 2700 Town Center Boulevard North, Sugar Land, TX 77479 | Public Works Department, 111 Gillingham Lane, Sugar Land, TX 77478 | http://www.rampp-team.com/lomrs.htm | July 5, 2012 | 480234
Fort Bend | Unincorporated areas of Fort Bend County (11-06-0225P) | The Honorable Robert Hebert, Fort Bend County Judge, 301 Jackson Street, Richmond, TX 77469 | Engineer's Office, 1124 Blume Road, Rosenburg, TX 77471 | http://www.rampp-team.com/lomrs.htm | July 5, 2012 | 480228
Guadalupe | City of Seguin (12-06-0870X) | The Honorable Betty Ann Matthies, Mayor, City of Seguin, 210 East Gonzales Street, Seguin, TX 78155 | City Hall, 205 North River Street, Seguin, TX 78155 | http://www.rampp-team.com/lomrs.htm | August 1, 2012 | 485508
Parker | City of Weatherford (11-06-2911P) | The Honorable Dennis Hooks, Mayor, City of Weatherford, 303 Palo Pinto Street, Weatherford, TX 76086 | Department of Code Enforcement, City Hall, 303 Palo Pinto Street, Weatherford, TX 76086 | http://www.rampp-team.com/lomrs.htm | June 13, 2012 | 480522
Wichita | City of Wichita Falls (11-06-2009P) | The Honorable Glenn Barham, Mayor, City of Wichita Falls, P.O. Box 1431, Wichita Falls, TX 76307 | 1300 7th Street, Wichita Falls, TX 76301 | http://www.rampp-team.com/lomrs.htm | June 28, 2012 | 480662
Virginia:
Caroline | Unincorporated areas of Caroline County (11-03-2159P) | The Honorable Floyd W. Thomas, Chairman, Caroline County Board of Supervisors, 212 North Main Street, Bowling Green, VA 22427 | 233 West Broaddus Avenue, Bowling Green, VA 22427 | http://www.rampp-team.com/lomrs.htm | May 25, 2012 | 510249
Loudoun | Town of Leesburg (11-03-1482P) | The Honorable Kristen C. Umstattd, Mayor, Town of Leesburg, 25 West Market Street, Leesburg, VA 20176 | Department of Plan Review, 25 West Market Street, Leesburg, VA 20176 | http://www.rampp-team.com/lomrs.htm | July 12, 2012 | 510091
Prince William | Unincorporated areas of Prince William County (11-03-1518P) | The Honorable Melissa S. Peacor, County Executive, Prince William County, James J. McCoart Administration Building, 1 County Complex Court, Prince William VA 22192 | James J. McCoart Administration Building, 1 County Complex Court, Prince William, VA 22192 | http://www.rampp-team.com/lomrs.htm | July 30, 2012 | 510119

(Catalog of Federal Domestic Assistance No. 97.022, “Flood Insurance.”)

Dated: July 18, 2012.
Sandra K. Knight,
Deputy Associate Administrator for Mitigation, Department of Homeland Security, Federal Emergency Management Agency.

[FR Doc. 2012-19219 Filed 8-6-12; 8:45 am]

BILLING CODE 9110-12-P